SMALL BUSINESS ADMINISTRATION

[Disaster Declaration #17260 and #17261; Kentucky Disaster Number KY-00086]

Administrative Declaration of a Disaster for the Commonwealth of Kentucky

AGENCY: Small Business Administration.

ACTION: Notice.

SUMMARY: This is a notice of an Administrative declaration of a disaster for the Commonwealth of Kentucky dated 11/03/2021.

Incident: Severe Flash Flooding.

Incident Period: 07/29/2021 through 07/30/2021.

DATES: Issued on 11/03/2021.

Physical Loan Application Deadline Date: 01/03/2022.

Economic Injury (EIDL) Loan Application Deadline Date: 08/03/2022.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW, Suite 6050, Washington, DC 20416, (202) 205-6734.

SUPPLEMENTARY INFORMATION: Notice is hereby given that as a result of the Administrator's disaster declaration, applications for disaster loans may be filed at the address listed above or other locally announced locations.

The following areas have been determined to be adversely affected by the disaster:

Primary Counties: Nicholas

Contiguous Counties:

Kentucky: Bath, Bourbon, Fleming, Harrison, Montgomery, Robertson

The Interest Rates are:

| Percent
For Physical Damage:
Homeowners with Credit Available Elsewhere | 3.125
Homeowners without Credit Available Elsewhere | 1.563
Businesses with Credit Available Elsewhere | 5.710
Businesses without Credit Available Elsewhere | 2.855
Non-Profit Organizations with Credit Available Elsewhere | 2.000
Non-Profit Organizations without Credit Available Elsewhere | 2.000
For Economic Injury:
Businesses & Small Agricultural Cooperatives without Credit Available Elsewhere | 2.855
Non-Profit Organizations without Credit Available Elsewhere | 2.000

The number assigned to this disaster for physical damage is 17260 6 and for economic injury is 17261 0.

The State which received an EIDL Declaration # is Kentucky.

(Catalog of Federal Domestic Assistance Number 59008)

Isabella Guzman,
Administrator.

[FR Doc. 2021-24560 Filed 11-9-21; 8:45 am]

BILLING CODE 8026-03-P